DEPARTMENT OF THE TREASURY

Office of Thrift Supervision

[AC-51: OTS No. H-4729]

Kaiser Federal Financial Group, Inc., Covina, CA; Approval of Conversion Application

Notice is hereby given that on September 28, 2010, the Office of Thrift Supervision approved the application of K-Fed Mutual Holding Company and Kaiser Federal Bank, Covina, California, to convert to the stock form of organization. Copies of the application are available for inspection by appointment (phone number: 202-906-5922 or e-mail Public.Info@OTS.Treas.gov) at the Public Reading Room, 1700 G Street, NW., Washington, DC 20552, and the OTS Western Regional Office, 122 W. John Carpenter Freeway, Suite 600, Irving, Texas 75261-9027.

Dated: September 28, 2010.
By the Office of Thrift Supervision.
Sandra E. Evans,
Federal Register Liaison.

[FR Doc. 2010-24772 Filed 10-1-10; 8:45 am]

BILLING CODE 6720-01-M